INTERNATIONAL TRADE COMMISSION

[Investigation No. 337-TA-823]

Certain Kinesiotherapy Devices and Components Thereof; Notice of Institution of Investigation; Institution of Investigation Pursuant to 19 U.S.C. 1337

AGENCY: U.S. International Trade Commission.

ACTION: Notice.

SUMMARY: Notice is hereby given that a complaint was filed with the U.S. International Trade Commission on December 2, 2011, under section 337 of the Tariff Act of 1930, as amended, 19 U.S.C. 1337, on behalf of Standard Innovation Corporation of Ottawa, Canada and Standard Innovation (US) Corp. of Wilmington, Delaware. Supplements to the complaint were filed on December 19, 2011, and December 27, 2011. The complaint, as supplemented, alleges violations of section 337 based upon the importation into the United States, the sale for importation, and the sale within the United States after importation of certain kinesiotherapy devices and components thereof by reason of infringement of certain claims of U.S. Patent No. 7,931,605 (“the `605 patent' ”) and U.S. Patent No. D605,779 (“the `779 patent' ”). The complaint further alleges that an industry in the United States exists as required by subsection (a)(2) of section 337.

The complainants request that the Commission institute an investigation and, after the investigation, issue an exclusion order and cease and desist orders.

ADDRESSES: The complaint and supplements, except for any confidential information contained therein, are available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its Internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2011).

Scope of Investigation: Having considered the complaint, the U.S. International Trade Commission, on January 3, 2012, ordered that—

(1) Pursuant to subsection (b) of section 337 of the Tariff Act of 1930, as amended, an investigation be instituted to determine whether there is a violation of subsection (a)(1)(B) of section 337 in the importation into the United States, the sale for importation, or the sale within the United States after importation of certain kinesiotherapy devices and components thereof that infringe one or more of claims 1-7, 9-21, 23, 24, 26, 33-40, 42-54, 56, 57, 59, 66-73, 75-90, and 92 of the `605 patent and the claim of the `779 patent, and whether an industry in the United States exists as required by subsection (a)(2) of section 337;

(2) For the purpose of the investigation so instituted, the following are hereby named as parties upon which this notice of investigation shall be served:

(a) The complainants are: Standard Innovation Corporation, 1130 Morrison Drive, Suite 330, Ottawa, ON, Canada K2H 9N6.

Standard Innovation (US) Corp., Corporation Trust Center, 1209 Orange Street, Wilmington, DE 19801.

(b) The respondents are the following entities alleged to be in violation of section 337, and are the parties upon which the complaint is to be served: LELO Inc., 4320 Stevens Creek Blvd., Suite 205, San Jose, CA 95129.

Leloi AB, Brunnsgatan 8, Ill 38 Stockholm, Sweden.

LELO, Room 701-706 Guobang Garden, No. 10, 396 South Wulumuqi Road, Shanghai, China 20003.

Natural Contours Europe, Tweede Weteringdwarsstraat 40, Amsterdam 1017 SX, The Netherlands.

Momentum Management, LLC a.k.a. Bushman Products, 1206 W Jon Street, Torrance, CA 90502.

Evolved Novelties, Inc., 9035 Independence Ave. Canoga Park, CA 91304.

Nalpac Enterprises, Ltd. d/b/a Nalpac, Ltd., 1111 E. 8 Mile Rd., Ferndale, MI 48220.

E. T.C., Inc. d/b/a Eldorado Trading, Company, Inc., 2325 West Midway Blvd., Broomfield, CO 80020.

Williams Trading Co., Inc., 9250 Commerce Highway, Pennsauken, NJ 08110.

Honey's Place, Inc., 640 Glenoaks Blvd., San Fernando, CA 91340-1419.

Lover's Lane & Co., 46750 Port St., Plymouth, MI 48170-6031.

PHE, Inc. d/b/a Adam & Eve, 302 Meadowland Drive, Hillsborough, NC 27278.

Castle Megastore Group, Inc., 1045 S. Edward Drive, Tempe, AZ 85281.

Shamrock 51 Management Company, Inc., d/b/a Fairvilla. Com, 105 Candace Drive, Unit 109, Maitland, FL 32751.

Paris Intimates, LLC, 4244 MacQueen Dr., West Bloomfield, MI 48323.

Drugstore.com, Inc., 411 108th Avenue NE., Suite 1400, Bellevue, WA 98804.

Peekay Inc., 901 W. Main Street, Suite A, Auburn, WA 98001.

Mile Inc. d/b/a Lion's Den Adult, 110 East Wilson Bridge Road, Suite 110, Worthington, OH 43085.

Marsoner, Inc. d/b/a Fascinations, 315 South Bracken Lane, Chandler, AZ 85224.

Love Boutique-Vista, LLC d/b/a Deja vu, 2130 Industrial Court, Vista, CA 92081.

Toys in Babeland LLC, 707 East Pike Street, Seattle, WA 98122.

(c) The Office of Unfair Import Investigations, U.S. International Trade Commission, 500 E Street, SW., Suite 401, Washington, DC 20436; and

(3) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

Issued: January 4, 2012.
By order of the Commission.
James R. Holbein,
Secretary to the Commission.

[FR Doc. 2012-177 Filed 1-9-12; 8:45 am]

BILLING CODE 7020-02-P